DEPARTMENT OF AGRICULTURE

Agricultural Research Service

Notice of Intent To Seek OMB Approval To Collect Information: Forms Pertaining to the Scientific Peer Preview of ARS Research Projects, Correction

AGENCY: Agricultural Research Service (ARS), USDA.

ACTION: Notice and request for comments; correction.

SUMMARY: The Agricultural Research Service published a document in the Federal Register of April 30, 2019 concerning request for comments on forms pertaining to the scientific peer preview of ARS research projects. The document was missing the collection title, OMB number and expiration date.

DATES: Written comments on this notice should be submitted on or before July 2, 2019.

ADDRESSES: All comments concerning this notice should be directed to the Director and Program Coordinator listed under FOR FURTHER INFORMATION CONTACT.

FOR FURTHER INFORMATION CONTACT: Dr. Marquea D. King, Director and Program Coordinator, Office of Scientific Quality Review (OSQR), Agricultural Research Service, 5601 Sunnyside Avenue, Beltsville, Maryland 20705; Telephone: 301-504-3283; Fax: 301-504-1251; email: marquea.king@usda.gov.

Correction

In the Federal Register of April 30, 2019, FR Doc. 2019-08689, on page 18236, under SUPPLEMENTARY INFORMATION, paragraph 1, should read as follows:

SUPPLEMENTARY INFORMATION: Title: Peer Review Related Forms for the Office of Scientific Review.

OMB Number: 0518-0028

Expiration Date: June 30, 2019.

The OSQR will seek approval from OMB to update six existing forms to ensure that ARS can efficiently manage data associated with the peer review of agricultural research. All forms are transferred and received electronically and may include on-line submissions in the future.

Dated: April 30, 2019.
Yvette Anderson,
Federal Register Liaison Officer for ARS, ERS, NASS.

[FR Doc. 2019-09129 Filed 5-2-19; 8:45 am]

BILLING CODE 3410-03-P